SMALL BUSINESS ADMINISTRATION

[Disaster Declaration # 11306 and # 11307]

Illinois Disaster # IL-00015

AGENCY: U.S. Small Business Administration.

ACTION: Notice.

SUMMARY: This is a Notice of the Presidential declaration of a major disaster for the State of Illinois (FEMA-1771-DR), dated 06/25/2008.

Incident: Severe Storms, and Flooding.

Incident Period: 06/01/2008 and continuing.

Effective Date: 06/25/2008.

Physical Loan Application Deadline Date: 08/25/2008.

Economic Injury (EIDL) Loan Application Deadline Date: 03/23/2009.

ADDRESSES: Submit completed loan applications to: U.S. Small Business Administration, Processing and Disbursement Center, 14925 Kingsport Road, Fort Worth, TX 76155.

FOR FURTHER INFORMATION CONTACT: Alan Escobar, Office of Disaster Assistance, U.S. Small Business Administration, 409 3rd Street, SW., Suite 6050, Washington, DC 20416.

SUPPLEMENTARY INFORMATION: Notice is hereby given that as a result of the President's major disaster declaration on 06/25/2008, applications for disaster loans may be filed at the address listed above or other locally announced locations.

The following areas have been determined to be adversely affected by the disaster:

Primary Counties (Physical Damage and Economic Injury Loans):

Adams, Clark, Coles, Crawford, Cumberland, Douglas, Edgar, Hancock, Henderson, Jasper, Lake, Lawrence, Mercer, Winnebago.

Contiguous Counties (Economic Injury Loans Only):

Illinois: Boone, Brown, Champaign, Clay, Cook, Dekalb, Effingham, Henry, Knox, Mcdonough, Mchenry, Moultrie, Ogle, Piatt, Pike, Richland, Rock Island, Schuyler, Shelby, Stephenson, Vermilion, Wabash, Warren.

Iowa: Des Moines, Lee, Louisa.

Indiana: Knox, Sullivan, Vermillion, Vigo.

Missouri: Clark, Lewis, Marion.

Wisconsin: Green, Kenosha, Rock.

The Interest Rates are:

| Percent
Homeowners With Credit Available Elsewhere | 5.375
Homeowners Without Credit Available Elsewhere | 2.687
Businesses With Credit Available Elsewhere | 8.000
Businesses & Small Agricultural Cooperatives Without Credit Available Elsewhere | 4.000
Other (Including Non-Profit Organizations) With Credit Available Elsewhere | 5.250
Businesses and Non-Profit Organizations Without Credit Available Elsewhere | 4.000

(Catalog of Federal Domestic Assistance Numbers 59002 and 59008)

Herbert L. Mitchell,
Associate Administrator for Disaster Assistance.

[FR Doc. E8-15455 Filed 7-7-08; 8:45 am]

BILLING CODE 8025-01-P